DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Fishermen's Contingency Fund.

OMB Control Number: 0648-0082.

Form Number(s): NOAA 8-164 and 88-166.

Type of Request: Regular (revision and extension of a currently approved information collection).

Number of Respondents: 40.

Average Hours per Response: Application: 7 hours and 45 minutes; 15-day report, 15 minutes.

Burden Hours: 320.

Needs and Uses: This request is for revisions to, and an extension of, a currently approved information collection. United States (U.S.) commercial fishermen may file claims for compensation for losses of, or damage to, fishing gear or vessels, plus 50 percent of resulting economic losses, attributable to oil and gas activities on the U.S. Outer Continental Shelf. To obtain compensation, applicants must comply with requirements set forth in 50 CFR part 296.

The requirements include a “report” within 15 days of the date the vessel first returns to port after the casualty incident to gain a presumption of eligible causation and an “application” within 90 days of when the applicant first became aware of the lost and/or damage.

The report is NOAA Form 88-166 and it requests identifying information such as: respondent's name; address; social security number; and casualty location. The information in the report is usually completed by NOAA during a telephone call with the respondent.

The application is NOAA Form 88-164 and it requires the respondent to provide information on the property and economic losses and/or damages including: type of damage; purchase date and price of lost/damaged gear; and income from recent fishing trips. It also includes an affidavit by which the applicant attests to the truthfulness of the claim.

The currently approved forms are being revised to improve the usability by allowing respondents to complete pdf versions of the forms as well as reducing the paper size from legal to letter. Prior sections that contained multiple questions have been separated to simplify the responses and to help ensure more complete and accurate responses. Because “Loran C” is no longer being used for locational coordinates, the term will be replaced with “GPS” for Global Positioning System. Clarification of some of the instructions will also be provided, based on previous applicants' responses and submitted reports and applications.

Affected Public: Business or other for-profit organizations; individuals or households.

Frequency: On occasion.

Respondent's Obligation: Required to obtain or maintain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 31, 2014.
Glenna Mickelson,
Management Analyst, Office of the Chief Information Officer.

[FR Doc. 2014-30925 Filed 1-2-15; 8:45 am]

BILLING CODE 3510-22-P